DEPARTMENT OF ENERGY

Federal Energy Regulatory Commission

Combined Notice of Filings #1

Take notice that the Commission received the following exempt wholesale generator filings:

Docket Numbers: EG22-73-000.

Applicants: Graphite Solar 1, LLC.

Description: Notice of Self-Certification of Exempt Wholesale Generator Status of Graphite Solar 1, LLC.

Filed Date: 3/28/22.

Accession Number: 20220328-5261.

Comment Date: 5 p.m. ET 4/18/22.

Take notice that the Commission received the following electric rate filings:

Docket Numbers: ER22-1484-000.

Applicants: Arizona Public Service Company.

Description: § 205(d) Rate Filing: Service Agreement No. 324, Amendment No. 2 to be effective 5/28/2022.

Filed Date: 3/28/22.

Accession Number: 20220328-5212.

Comment Date: 5 p.m. ET 4/18/22.

Docket Numbers: ER22-1485-000.

Applicants: Arizona Public Service Company.

Description: Tariff Amendment: Service Agreement No. 391—Notice of Cancellation to be effective 5/28/2022.

Filed Date: 3/28/22.

Accession Number: 20220328-5214.

Comment Date: 5 p.m. ET 4/18/22.

Docket Numbers: ER22-1487-000.

Applicants: Traverse Wind Energy Holdings LLC.

Description: Tariff Amendment: Notice of Cancellation of Market-Based Rate Tariff to be effective 5/29/2022.

Filed Date: 3/29/22.

Accession Number: 20220329-5006.

Comment Date: 5 p.m. ET 4/19/22.

Docket Numbers: ER22-1488-000.

Applicants: Wisconsin Public Service Corporation.

Description: § 205(d) Rate Filing: Filing of Annual Formula Rate of PEB and PBOP Changes to be effective 4/1/2022.

Filed Date: 3/29/22.

Accession Number: 20220329-5011.

Comment Date: 5 p.m. ET 4/19/22.

Docket Numbers: ER22-1489-000.

Applicants: New York Independent System Operator, Inc., Niagara Mohawk Power Corporation.

Description: § 205(d) Rate Filing: New York Independent System Operator, Inc. submits tariff filing per 35.13(a)(2) (iii: 205 SGIA between NYISO and NMPC for ELP Ticonderoga Solar SA No. 2666 to be effective 3/15/2022.

Filed Date: 3/29/22.

Accession Number: 20220329-5039.

Comment Date: 5 p.m. ET 4/19/22.

Docket Numbers: ER22-1490-000.

Applicants: Northern States Power Company, a Wisconsin corporation.

Description: § 205(d) Rate Filing: 2022-03-29 NSPW-CWDR-SISA-166-0.0.0 to be effective 3/30/2022.

Filed Date: 3/29/22.

Accession Number: 20220329-5062.

Comment Date: 5 p.m. ET 4/19/22.

Docket Numbers: ER22-1491-000.

Applicants: Southwest Power Pool, Inc.

Description: § 205(d) Rate Filing: Corn Belt Power Cooperative, Inc.'s Revisions to Formula Rate to be effective 6/1/2022.

Filed Date: 3/29/22.

Accession Number: 20220329-5072.

Comment Date: 5 p.m. ET 4/19/22.

Docket Numbers: ER22-1492-000.

Applicants: PacifiCorp.

Description: § 205(d) Rate Filing: Deseret TSOA Rev 8 to be effective 5/28/2022.

Filed Date: 3/29/22.

Accession Number: 20220329-5090.

Comment Date: 5 p.m. ET 4/19/22.

Docket Numbers: ER22-1493-000.

Applicants: Midcontinent Independent System Operator, Inc., Entergy Services, LLC.

Description: § 205(d) Rate Filing: Midcontinent Independent System Operator, Inc. submits tariff filing per 35.13(a)(2) (iii: 2022-03-29_Entergy (ELL & ENOL) revisions RE to Hurricane Ida and 2020 Storms to be effective 6/1/2022.

Filed Date: 3/29/22.

Accession Number: 20220329-5101.

Comment Date: 5 p.m. ET 4/19/22.

Docket Numbers: ER22-1494-000.

Applicants: Duke Energy Florida, LLC.

Description: Tariff Amendment: DEF—Cancellations of Service Agreement Nos. 171, 177 to be effective 5/29/2022.

Filed Date: 3/29/22.

Accession Number: 20220329-5133.

Comment Date: 5 p.m. ET 4/19/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2022.
Debbie-Anne A. Reese,
Deputy Secretary.

[FR Doc. 2022-07035 Filed 4-1-22; 8:45 am]

BILLING CODE 6717-01-P